AGENCY FOR INTERNATIONAL DEVELOPMENT

Privacy Act of 1974; System of Records

AGENCY: United States Agency for International Development.

ACTION: Privacy Act System of Records Notice.

SUMMARY: Pursuant to the provisions of the Privacy Act of 1974 (5 U.S.C. 552a), the United States Agency for International Development (USAID) is giving notice that it proposes to establish a new system of records, the Partner Vetting System (PVS). The PVS will support the vetting of individuals, officers, or other officials of non-governmental organizations who apply for USAID contracts, grants, cooperative agreements, or other funding, or who apply for registration with USAID as Private and Voluntary Organizations (PVOs), ensuring that neither USAID funds nor USAID-funded activities inadvertently or otherwise provide support to entities or individuals associated with terrorism.

DATES: Written comments must be received on or before August 27, 2007. Unless there is a further notice in the Federal Register, this new system of records will become effective on August 27, 2007.

ADDRESSES: You may submit comments to:

E-mail: privacy@usaid.gov.

Fax: (703) 666-1466.

Mail: Chief Privacy Officer, United States Agency for International Development, 1300 Pennsylvania Avenue, NW., Office 2.12-003, Washington, DC 20523-2120.

FOR FURTHER INFORMATION CONTACT: For general questions, please contact: Coordinator for Counterterrorism, Office of Security, United States Agency for International Development, Ronald Reagan Building, 1300 Pennsylvania Avenue, NW., Washington, DC 20523. For privacy issues please contact: Chief Privacy Officer, United States Agency for International Development, 1300 Pennsylvania Avenue, NW., Office 2.12-003, Washington, DC 20523-2120.

SUPPLEMENTARY INFORMATION: USAID is establishing a new system of records pursuant to the Privacy Act (5 U.S.C. 552a), entitled the Partner Vetting System (PVS). Since September 2001, in accordance with Executive Order 13224 which prohibits any transactions or dealings with entities or individuals designated as terrorists, USAID has taken several steps to ensure USAID funds are not provided to individuals or entities associated with terrorism. These efforts include: (1) Requiring that all solicitations, contracts, Annual Program Statements or Requests for Applications, grants or cooperative agreements, or other comparable documents contain language reminding USAID partners of the laws and Executive Orders prohibiting the provision of resources and support to individuals and organizations associated with terrorism; (2) requiring all non-governmental organization (NGO) applicants for grants and cooperative agreements to submit terrorist financing certifications; and (3) requiring USAID contracting officers and agreement officers to check applicable terrorist listings to ensure that potential contractors, grantees, sub-contractors, and sub-grantees are not on these listings.

In addition to the precautions described above, there is also a statutory requirement for vetting under USAID's West Bank and Gaza (WBG) program. Since Fiscal Year 2003, the annual foreign operations appropriations legislation has required that, “the Secretary of State shall take all appropriate steps to ensure that such assistance is not provided to or through any individual, private or government entity, or education institution that the Secretary knows or has reason to believe advocates, plans, sponsors, engages in, or has engaged in, terrorist activity.” Accordingly, USAID's mission for the WBG developed anti-terrorism procedures for all awards that it administers and has conducted vetting since 2003. A recent review of the WBG program by the Government Accountability Office (GAO) identified processes and procedures that could be improved and streamlined with the use of additional information technology. The PVS is being created, in part, as a result of these recommendations and will assist not only the mission for WBG in better tracking and managing the overall vetting process, but all locations in which USAID has or will have a program.

PVS will facilitate the management and collection of information from individuals, officers, employees, or other officials of NGOs who apply for USAID contracts, grants, cooperative agreements or other USAID funding, or who apply for registration with USAID as PVOs. The information will be used to conduct national security screening of such individuals and NGOs to ensure that USAID funds do not inadvertently or otherwise provide support to entities or individuals associated with terrorism. To thoroughly conduct this screening, it is necessary to collect information on the principal officers and other employees of applicant organizations or on individuals that are applying directly for awards on their own behalf. Principal officers may include directors, program managers, members of governing bodies, or other individuals with operational control of the organization or those individuals that administer funds.

The primary source of information in PVS will be collected directly from the individuals acting in their own capacity or from the appointed official for the NGO applying for USAID funding or registration as a PVO. An exemption will not be claimed for information collected directly from the individuals acting in their own capacity or from the appointed official for the NGO and this information will be treated as unclassified. USAID is currently devising a retention schedule for these records. However, some information may be obtained from other U.S. government agencies or another agency's system of records. Any information that is recompiled from another agency's system of records will follow the retention plan for that agency, will carry the appropriate classification level, and be considered exempt under the originating agency's exemptions.

Electronic Access Addresses

You may submit comments by sending e-mail to: privacy@usaid.gov. You may submit comments by submitting a facsimile document to: (703) 666-1466.

Dated: February 28, 2007.
Philip M. Heneghan,
Chief Privacy Officer.

Editorial Note: This document was received at the Office of the Federal Register on July 5, 2007.

USAID-027

SYSTEM NAME:

Partner Vetting System (PVS).

SECURITY CLASSIFICATION:

Classified and Sensitive but Unclassified.

SYSTEM LOCATION:

The United States Agency for International Development (USAID), Office of Security, 1300 Pennsylvania Avenue, Washington, DC 20523, and any relevant location(s) where USAID has a program.

CATEGORIES OF INDIVIDUALS COVERED BY THE SYSTEM:

a. Individuals who are directors, officers, or are otherwise employed by either for-profit or non-profit non-governmental organizations who apply for USAID contracts, grants, cooperative agreements or other types of instruments;

b. Individuals who apply for personal services contracts or for other contracts, grants, or cooperative agreements;

c. Individuals or organizations who attempt to obtain other USAID assistance or benefits; and

d. Individuals who are officers or other officials of non-profit, non-governmental organizations who apply for registration with USAID as Private and Voluntary Organizations (PVOs).

CATEGORIES OF RECORDS IN THE SYSTEM:

Sensitive but Unclassified and non-exempt identifying information in this system includes, but is not limited to:

a. Full name (including any aliases or variations of spelling),

b. Date and place of birth,

c. Government-issued identification information (including, but not limited to, social security number, passport number, or other numbers originated by a government that specifically identifies an individual),

d. Current mailing address,

e. Telephone and fax numbers,

f. Email addresses,

g. Country of origin and/or nationality,

h. Citizenship,

i. Gender, and

j. Profession or other employment data.

Classified and exempt information in this system includes, but is not limited to:

a. Results generated from the screening of individuals covered by this notice;

b. Intelligence and law enforcement information related to national security; and

c. National security vetting and terrorism screening information, provided to USAID by other agencies.

AUTHORITY FOR MAINTENANCE OF THE SYSTEM:

18 U.S.C. 2339A, 2339B and 2339C; 22 U.S.C. 2151 et seq.; Section 559 of the FY06 Foreign Operations Appropriations Act; Executive Orders 13224, 13099 and 12947; and HSPD-6.

PURPOSE(S):

To support the vetting of directors, officers, or other employees of non-governmental organizations who apply for USAID contracts, grants, cooperative agreements or other funding or who apply for registration with USAID as Private and Voluntary Organizations. The information collected from these individuals is specifically used to conduct screening to ensure that USAID funds and USAID-funded activities are not purposefully or inadvertently used to provide support to entities or individuals deemed to be a risk to national security.

ROUTINE USES OF RECORDS MAINTAINED IN THE SYSTEM, INCLUDING CATEGORIES OF USERS AND THE PURPOSES OF SUCH USES:

USAID may disclose relevant system records in accordance with any current and future blanket routine uses established for its record systems. See the Statement of General Routine Uses (and amendments), 42 FR 47371 (September 20, 1977); 59 FR 52954 (October 20, 1994); 59 FR 62747 (December 6, 1994). Routine uses are not meant to be mutually exclusive and may overlap in some cases.

DISCLOSURE TO CONSUMER REPORTING AGENCIES:

None.

POLICIES AND PRACTICES FOR STORING, RETRIEVING, PROTECTING, ACCESSING, RETAINING, AND DISPOSING OF RECORDS IN THE SYSTEM:

STORAGE:

Records in this system are stored in both paper and electronic format. Paper records are maintained by the USAID regional offices when the information cannot be collected electronically. Electronic storage is on servers (hard disk media) and magnetic tapes (or other backup media), stored within a secure location within the USAID Washington headquarters.

RETRIEVABILITY:

Records in this system are retrieved by individual name, date of birth, place of birth, social security numbers, passport numbers or other identifying data specified under Categories of Records in the System.

SAFEGUARDS:

USAID maintains all classified records in an authorized security container with access limited to authorized government personnel and authorized contractors. Physical security protections include guards and locked facilities requiring badges. Only authorized government personnel and authorized contractors can access records within the system. USAID mandates and certifies that physical and technological safeguards appropriate for classified and Sensitive but Unclassified systems are used to protect the records against unauthorized access. All authorized government personnel and authorized contractors with access to the system must hold appropriate security clearance, sign a non-disclosure agreement, and undergo both privacy and security training.

For paper records: Classified and Sensitive but Unclassified records are kept in an approved security container at the USAID Washington headquarters, and at the relevant location(s) where USAID has a program. Access to these records is limited to those authorized government personnel and authorized contractors who have a need for the records in the performance of their official duties.

For electronic records: Records are kept in a secure database in the USAID Washington headquarters. Access to the records is restricted to those authorized government personnel and authorized contractors with a specific role in the vetting process as part of the performance of their official duties. The PVS database is housed on and accessed from a Sensitive but Unclassified computer network. Vetting requests, analyses, and results will be stored separately on a classified computer network. Both computer networks and the PVS database require a user identification name and password and approval from the Office of Security. An audit trail is maintained and periodically reviewed to monitor access to the system. Authorized government personnel and authorized contractors assigned roles in the vetting process are provided role-specific training to ensure that they are knowledgeable in how to protect personally identifiable information.

RETENTION AND DISPOSAL:

Records in this system will be retained and disposed of in accordance with a records schedule to be approved by the National Archives and Records Administration.

SYSTEM MANAGER(S) AND ADDRESS:

Coordinator for Counterterrorism, Office of Security, United States Agency for International Development, Ronald Reagan Building, 1300 Pennsylvania Avenue, NW., Washington, DC 20523.

NOTIFICATION PROCEDURE:

To the extent applicable, because this system contains classified information related to the government's national security programs, records in this system may be exempt from notification, access, and amendment as permitted by subsection (j) and (k) of the Privacy Act.

RECORD ACCESS PROCEDURES:

United States citizens or legal permanent residents can request access to a non-exempt record pertaining to him/her by sending a request in writing, signed, to the Chief Privacy Officer at the following address: Chief Privacy Officer, United States Agency for International Development, 1300 Pennsylvania Avenue, NW., Office 2.12-003, Washington, DC 20523-2120.

When requesting access to records covered by this Notice, an individual should provide his/her full name, date of birth, and complete address. An individual requesting access to records in person must provide identity documents, such as a government-issued photo ID, sufficient to satisfy the custodian of the records that the requester is entitled to access.

Requesters should also reasonably specify the record contents being sought. Rules regarding access to Privacy Act records appear in 22 CFR Part 215. If additional information or assistance is required, contact: Chief Privacy Officer, United States Agency for International Development, 1300 Pennsylvania Avenue, NW., Office 2.12-003, Washington, DC 20523-2120.

CONTESTING RECORD PROCEDURES:

Requests for correction or amendment must identify the information to be changed and the corrective action sought. Requests must be submitted to the Chief Privacy Officer as provided in the record access procedures above.

RECORD SOURCE CATEGORIES:

Information in this system is obtained from the non-governmental organization's official who is responsible for completing the application package required to compete for USAID funds or who apply for registration with USAID as a Private and Voluntary Organization. In the case of applications by an individual in his/her own capacity, the information will be collected directly from the individual applicant. Information in this system may also be obtained from public sources, agencies conducting national security screening, law enforcement and intelligence agency record systems, and other government databases.

EXEMPTIONS CLAIMED FOR THE SYSTEM:

To the extent applicable, records in this system may be exempt from any part of 5 U.S.C. 552a except subsections (b), (c)(1) and (2), (e)(4)(A) through (F), (e)(6), (7), (9), (10), and (11) if the records in the system are subject to the exemption found in 5 U.S.C. 552a(j). To the extent applicable, records in this system may be exempt from subsections (c)(3), (d), (e)(1), (e)(4)(G), (H), (I), and (f) of 5 U.S.C. 552a if the records in the system are subject to the exemption found in 5 U.S.C. 552a(k). Any other exempt records from other systems of records that are recompiled into this system are also considered exempt to the extent they are claimed as such in the original systems. Rules have been promulgated in accordance with the requirements of 5 U.S.C. 553(b), (c), and (e).

[FR Doc. 07-3330 Filed 7-16-07; 8:45 am]

BILLING CODE 6116-01-P